DEPARTMENT OF STATE

[Public Notice: 12357]

Notice of a Public Meeting in Preparation for International Maritime Organization Facilitation Committee (FAL), 48th Session

The Department of State will conduct a public meeting at 9:00 a.m. on Tuesday, April 2, 2023, by way of Microsoft Teams, teleconference, and in-person at the offices of ABSG Consulting in Washington, DC. The primary purpose of the meeting is to prepare for the forty-eighth session of the International Maritime Organization's (IMO) Facilitation Committee (FAL 48) to be held in person at IMO Headquarters in London, United Kingdom, and in hybrid format from Monday, April 8, 2024, to Friday, April 12, 2024.

Members of the public may participate in-person, via Microsoft Teams, or up to the capacity of the teleconference phone line. To RSVP, participants should contact the meeting coordinator, Mr. James Bull, by email at James.T.Bull@uscg.mil. The meeting location will be the offices of ABSG Consulting at 80 M Street SE, Washington, DC 20003 and the Microsoft Teams access and/or teleconference line will be provided to those who RSVP.

The agenda items to be considered at this meeting include:

—Adoption of the agenda; report on credentials

—Decisions of other IMO bodies

—Consideration and adoption of amendments to the Convention

—Review and update of the Explanatory Manual to the FAL Convention

—Application of single window concept

—Review and revision of the IMP Compendium of Facilitation and Electronic Business, including additional e-business solutions

—Development of guidelines on Port Community Systems

—Measures to address Maritime Autonomous Surface Ships (MASS) in the instruments under the purview of the Facilitation Committee

—Development of guidelines for the prevention and suppression of the smuggling of wildlife on ships engaged in international maritime traffic

—Introduction of the API/PNR concept in maritime transport

—Analysis of possible means of auditing compliance with the Convention on Facilitation of International Maritime Traffic

—Unsafe mixed migration by sea

—Consideration and analysis of reports and information on persons rescued at sea and stowaways

—Technical cooperation activities related to facilitation or maritime traffic

—Relations with other organizations

—Application of the Committee's procedures on organization and method of work

—Work program

—Election of Chair and Vice-Chair for 2024

—Any other business

—Consideration of the report of the Committee on its forty-eighth session

Those who plan to participate may contact the meeting coordinator, Mr. James Bull, by email at James.T.Bull@uscg.mil or in writing at 2703 Martin Luther King Jr. Ave. SE, Stop 7501, Washington, DC 20593-7501. Members of the public needing reasonable accommodation should advise James Bull not later than March 19, 2024. Requests made after that date will be considered, but might not be possible to fulfill.

Additional information regarding this and other IMO public meetings may be found at: https://www.dco.uscg.mil/IMO.

(Authority: 22 U.S.C. 2656 and 5 U.S.C. 552)

Leslie W. Hunt,
Coast Guard Liaison Officer, Office of Ocean and Polar Affairs, Department of State.

[FR Doc. 2024-04894 Filed 3-6-24; 8:45 am]

BILLING CODE 4710-09-P